INTERNATIONAL TRADE COMMISSION

[Investigation No. 337-TA-783]

Certain GPS Navigation Products, Components Thereof, and Related Software; Termination of Investigation on the Basis of Settlement

AGENCY: U.S. International Trade Commission.

ACTION: Notice.

SUMMARY: Notice is hereby given that the U.S. International Trade Commission has determined not to review the presiding administrative law judge's initial determination (“ID”) (Order No. 14) granting a joint motion to terminate the above-captioned investigation on the basis of a settlement agreement.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 7, 2011, based on a complaint filed by Honeywell International Inc. of Morristown, New Jersey (“Honeywell”) that alleged a violation of section 337 of the Tariff Act of 1930, as amended, 19 U.S.C. § 1337, in the importation, sale for importation, and sale within the United States after importation of certain GPS navigation products, components thereof, and related software, by reason of the infringement of certain claims of U.S. Patent Nos. 5,461,388, 6,088,653, 6,865,452, and 7,209,070. 76 FR 39896 (July 7, 2011). The notice of investigation named as respondents Furuno Electric Co., Ltd. of Nishinomiya, Japan, and Furuno U.S.A., Inc. of Camas, Washington (collectively, “Furuno”).

On February 9, 2012, Honeywell and Furuno jointly moved to terminate the investigation in its entirety on the basis of a settlement agreement. On February 28, 2012, the ALJ granted the motion as an ID. Order No. 14 at 2.

No petitions for review of the ID were filed. The Commission has determined not to review the ID.

The authority for the Commission's determination is contained in section 337 of the Tariff Act of 1930, as amended (19 U.S.C. 1337), and in sections 210.21 and 210.42 of the Commission's Rules of Practice and Procedure (19 CFR 210.21, 210.42).

Issued: March 16, 2012.
James R. Holbein,
Secretary to the Commission.

[FR Doc. 2012-6907 Filed 3-21-12; 8:45 am]

BILLING CODE 7020-02-P